DEPARTMENT OF TRANSPORTATION

Federal Aviation Administration

14 CFR Part 73

[Docket No. FAA-2014-0370; Airspace Docket No. 14-ASO-2]

RIN 2120-AA66

Proposed Redesignation and Expansion of Restricted Area R-4403; Gainesville, MS

AGENCY: Federal Aviation Administration (FAA), DOT.

ACTION: Notice of proposed rulemaking (NPRM).

SUMMARY: This action proposes to remove restricted area R-4403 Gainesville, MS, and replace it with an expanded area that would be redesignated as R-4403A, B, C, D, E and F, Stennis Space Center, MS. The expanded restricted airspace would be used to support mission requirements of the National Aeronautics and Space Administration (NASA) and the Naval Special Warfare Command (NSWC).

DATES: Comments must be received on or before August 25, 2014.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2014-0370 and Airspace Docket No. 14-ASO-2, at the beginning of your comments. You may also submit comments through the Internet at www.regulations.gov. Comments on environmental and land use aspects should be directed to: David Lorance, P.E., Center Operations Directorate, Roy S. Estess Building 1100, Mail Code RA02, Stennis Space Center, MS 39529-6000.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2014-0370 and Airspace Docket No. 14-ASO-2) and be submitted in triplicate to the Docket Management System (see ADDRESSES section for address and phone number). You may also submit comments through the Internet at www.regulations.gov.

Commenters wishing the FAA to acknowledge receipt of their comments on this action must submit with those comments a self-addressed, stamped postcard on which the following statement is made: “Comments to FAA Docket No. FAA-2014-0370 and Airspace Docket No. 14-ASO-2.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at www.regulations.gov.

You may review the public docket containing the proposal, any comments received and any final disposition in person at the Dockets Office (see ADDRESSES section for address and phone number) between 9:00 a.m. and 5:00 p.m., Monday through Friday, except Federal holidays. An informal docket may also be examined during normal business hours at the office of the Operations Support Group, Eastern Service Center, Federal Aviation Administration, 1701 Columbia Ave., College Park, GA 30337.

Persons interested in being placed on a mailing list for future NPRM's should contact the FAA's Office of Rulemaking, (202) 267-9677, for a copy of Advisory Circular No. 11-2A, Notice of Proposed Rulemaking Distribution System, which describes the application procedure.

Background

Restricted area R-4403, Gainesville, MS, was originally designated as of January 6, 1966 (30 FR 10287) for NASA's static testing of large space vehicle rocket stages. R-4403 is a rectangular area, measuring approximately 2 nautical miles (NM) by 2.5 NM with a designated altitude from the surface up to 5,000 feet MSL.

NASA and NSWC have jointly proposed an expansion of R-4403. The existing restricted area is too small to fully contain hazards to aviation associated with rocket engine testing and untethered space vehicle propulsion system testing. In addition, NSWC requested restricted airspace to be used for conducting full mission profile training for Special Operations Forces (SOF). This training allows air and ground units to practice integrating their operations to eliminate potential conflicts and coordination problems that could otherwise arise during complex missions when deployed.

R-4403A and B would be used for NASA activities, while R-4403C through F would be used by SOF units to conduct integrated training in air and ground tactics prior to their deployment on real-world missions. The Stennis Space Center has the potential to enable combined SOF training for riverine, jungle and airborne forces. Currently, the Stennis Space Center lacks a live-fire air-to-ground capability. This deficiency reduces SOF mission integration training in the employment of air and ground units to no more than a communications exercise. The proposed expansion of R-4403 would provide the live-fire air-to-ground capability which is critical to realistic full mission profile training.

The Proposal

The FAA is proposing an amendment to 14 CFR part 73 to remove restricted area R-4403, Gainesville, MS, and redesignate and expand the size of the airspace to consist of six subareas: R-4403A, B, C, D, E and F, Stennis Space Center, MS. The FAA is proposing this action at the request of NASA and the NSWC. R-4403A and B would be used for NASA activities, such as continuing rocket engine testing and untethered space vehicle propulsion system testing. The NSWC would use the proposed R-4403C, D, E and F for integrated Special Operations Forces training. The proposed restricted areas are described below.

R-4403A would extend within a 2.5-NM radius of lat. 30°21′51″ N., long. 89°35′39″ W. R-4403A would extend from the surface to 12,000 feet MSL. It would replace R-4403 with an expanded area to more fully contain NASA rocket engine testing hazards, including testing of new rocket engine technologies.

R-4403B would be used by NASA for untethered space vehicle propulsion testing. The area would extend upward from the surface to 6,000 feet MSL. These vehicles are utilized to explore planets and asteroids. Testing of these vehicles involves potential hazards since failure of the vehicle, its propulsion system or propellant tanks can result in explosion of the vehicle. The propensity for this to occur is greater with these vehicles than with a standard aircraft because of the extremely volatile nature of the propellants and the poor aerodynamic characteristics of the vehicle during earth-based operation. The proposed R-4403B is designed to contain the flight profiles of these vehicles as well as any potential hazards to nonparticipating aircraft.

R-4403C would contain a ground target for air-to-surface weapons firing by aircraft such as armed helicopters and AC-130 gunships. Surface-to-air laser firing would also be conducted. The area would extend upward from the surface to 6,000 feet MSL.

R-4403D would be used in conjunction with R-4403C. It would have the same lateral dimensions as R-4403C and would extend above R-4403C from 6,000 feet MSL to 10,000 feet MSL. This area would contain air-to-ground weapons firing, as well as surface-to-air laser firing.

R-4403E would contain a ground target for air-to-surface weapons firing and surface-to-air laser firing. The area would extend upward from the surface to 10,000 feet MSL.

R-4403F would be used in conjunction with R-4403E. R-4403F would wrap around the northeast corner of R-4403E and would extend upward from 4,000 feet MSL to 10,000 feet MSL.

The proposed time of designation for R-4403A and R-4403B is “Intermittent, 1000 to 0300 local time, as activated by NOTAM at least 24 hours in advance.” The proposed time of designation for R-4403C, D, E and F is “Intermittent, 1800 to 2400 local time as activated by NOTAM at least 24 hours in advance; other times by NOTAM with ATC approval. (Note: The term “Intermittent” is used to indicate occasional, irregular, or changeable use periods). During periods when the proposed restricted areas are not needed by the using agencies, the airspace would be returned to the controlling agency for access by other airspace users.

A color graphic depiction of the proposed restricted areas will be posted under the “Supporting & Related Material” section on the www.regulations.gov Web site (search FAA-2014-0370).

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would restructure the restricted airspace at the Stennis Space Center, MS, to enhance aviation safety and accommodate essential NASA and NSWC requirements.

Environmental Review

This proposal will be subjected to an environmental analysis in accordance with FAA Order 1050.1E, “Environmental Impacts: Policies and Procedures,” prior to any FAA final regulatory action.

List of Subjects in 14 CFR Part 73

Airspace, Prohibited Areas, Restricted Areas.

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.44 (Amended)

2. § 73.44 is amended as follows:

* * * * *

R-4403 Gainesville, MS [Removed]

* * * * *

R-4403A Stennis Space Center, MS [New]

Boundaries. Within a 2.5-NM radius centered at lat. 30°21′51″ N., long. 89°35′39″ W.

Designated altitudes. Surface to 12,000 feet MSL.

Time of designation. Intermittent, 1000 to 0300 local time, as activated by NOTAM at least 24 hours in advance.

Controlling agency. FAA, Houston ARTCC.

Using agency. NASA, Director, Stennis Space Center, Bay St. Louis, MS.

* * * * *

R-4403B Stennis Space Center, MS [New]

Boundaries. Beginning at lat. 30°29′37″ N., long. 89°35′16″ W.; to lat. 30°29′37″ N., long. 89°32′33″ W.; thence clockwise along a 0.85 NM arc centered at lat. 30°28′46″ N., long. 89°32′33″ W.; to lat. 30°28′46″ N., long. 89°31′34″ W.; to lat. 30°26′25″ N., long. 89°31′34″ W.; to lat. 30°24′02″ N., long. 89°31′34″ W.; thence counterclockwise along a 4.2 NM arc centered at lat. 30°22′04″ N., long. 89°27′17″ W.; to lat. 30°20′22″ N., long. 89°31′43″ W.; to lat. 30°19′25″ N., long. 89°35′00″ W.; to lat. 30°18′23″ N., long. 89°40′17″ W.; to lat. 30°21′08″ N., long. 89°42′25″ W.; to lat. 30°22′22″ N., long. 89°42′58″ W.; to lat. 30°23′44″ N., long. 89°42′43″ W.; to lat. 30°26′40″ N., long. 89°40′51″ W.; thence counterclockwise along a 3 NM arc centered at lat. 30°29′15″ N., long. 89°39′04″ W.; to lat. 30°27′08″ N., long. 89°36′37″ W.; to lat. 30°27′58″ N., long. 89°35′27″ W.; to lat. 30°28′47″ N., long. 89°35′27″ W.; to the point of beginning.

Designated altitudes. Surface to 6,000 feet MSL.

Time of designation. Intermittent, 1000 to 0300 local time, as activated by NOTAM at least 24 hours in advance.

Controlling agency. FAA, Houston ARTCC.

Using agency. NASA, Director, Stennis Space Center, Bay St. Louis, MS.

* * * * *

R-4403C Stennis Space Center, MS [New]

Boundaries. Beginning at lat. 30°27′58″ N., long. 89°35′27″ W.; to lat. 30°22′35″ N., long. 89°35′27″ W.; to lat. 30°20′22″ N., long. 89°31′43″ W.; to lat. 30°19′25″ N., long. 89°35′00″ W.; to lat. 30°18′23″ N., long. 89°40′17″ W.; to lat. 30°21′08″ N., long. 89°42′25″ W.; to lat. 30°22′22′ N., long. 89°42′58″ W.; to lat. 30°23′44″ N., long. 89°42′43″ W.; to lat. 30°26′40″ N., long. 89°40′51″ W.; thence counterclockwise along a 3 NM arc centered at lat. 30°29′15″ N., long. 89°39′04″ W.; to lat. 30°27′08″ N., long. 89°36′37″ W.; to the point of beginning.

Designated altitudes. Surface to but not including 6,000 feet MSL.

Time of designation. Intermittent, 1800 to 2400 local time, as activated by NOTAM at least 24 hours in advance; other times by NOTAM with ATC approval.

Controlling agency. FAA, Houston ARTCC.

Using agency. U.S. Navy, Deputy Commander, Naval Special Warfare Command, Naval Special Warfare N31 Branch, Stennis Space Center, Bay St. Louis, MS.

* * * * *

R-4403D Stennis Space Center, MS [New]

Boundaries. Beginning at lat. 30°27′58″ N., long. 89°35′27″ W.; to lat. 30°22′35″ N., long. 89°35′27″ W.; to lat. 30°20′22″ N., long. 89°31′43″ W.; to lat. 30°19′25″ N., long. 89°35′00″ W.; to lat. 30°18′23″ N., long. 89°40′17″ W.; to lat. 30°21′08″ N., long. 89°42′25″ W.; to lat. 30°22′22″ N., long. 89°42′58″ W.; to lat. 30°23′44″ N., long. 89°42′43″ W.; to lat. 30°26′40″ N., long. 89°40′51″ W.; thence counterclockwise along a 3 NM arc centered at lat. 30°29′15″ N., long. 89°39′04″ W.; to lat. 30°27′08″ N., long. 89°36′37″ W.; to the point of beginning.

Designated altitudes. 6,000 feet MSL to 10,000 feet MSL.

Time of designation. Intermittent, 1800 to 2400 local time, as activated by NOTAM at least 24 hours in advance; other times by NOTAM with ATC approval.

Controlling agency. FAA, Houston ARTCC.

Using agency. U.S. Navy, Deputy Commander, Naval Special Warfare Command, Naval Special Warfare N31 Branch, Stennis Space Center, Bay St. Louis, MS.

* * * * *

R-4403E Stennis Space Center, MS [New]

Boundaries. Beginning at lat. 30°29′37″ N., long. 89°35′16″ W.; to lat. 30°29′37″ N., long. 89°32′33″ W.; thence clockwise along a 0.85 NM arc centered at lat. 30°28′46″ N., long. 89°32′33″ W.; to lat. 30°28′46″ N., long. 89°31′34″ W.; to lat. 30°26′25″ N., long. 89°31′34″ W.; to lat. 30°24′02″ N., long. 89°31′34″ W.; thence counterclockwise along a 4.2 NM arc centered at lat. 30°22′04″ N., long. 89°27′17″ W.; to lat. 30°20′22″ N., long. 89°31′43″ W.; to lat. 30°22′35″ N., long. 89°35′27″ W.; to lat. 30°27′58″ N., long. 89°35′27″ W,; to lat. 30°28′47″ N., long. 89°35′27″ W.; to the point of beginning.

Designated altitudes. Surface to 10,000 feet MSL.

Time of designation. Intermittent, 1800 to 2400 local time, as activated by NOTAM at least 24 hours in advance; other times by NOTAM with ATC approval.

Controlling agency. FAA, Houston ARTCC.

Using agency. U.S. Navy, Deputy Commander, Naval Special Warfare Command, Naval Special Warfare N31 Branch, Stennis Space Center, Bay St. Louis, MS.

* * * * *

R-4403F Stennis Space Center, MS [New]

Boundaries. Beginning at lat. 30°29′37″ N., long. 89°35′16″ W.; thence clockwise along a 2.5 NM arc centered at lat. 30°28′46″ N., long. 89°32′33″ W.; to lat. 30°26′25″ N., long. 89°31′34″ W.; to lat. 30°28′46″ N., long. 89°31′34″ W.; thence counterclockwise along a 0.85 NM arc centered at lat. 30°28′46″ N., long. 89°32′33″ W.; to lat. 30°29′37″ N., long. 89°32′33″ W.; to the point of beginning.

Designated altitudes. 4,000 feet MSL to 10,000 feet MSL.

Time of designation. Intermittent, 1800 to 2400 local time, as activated by NOTAM at least 24 hours in advance; other times by NOTAM with ATC approval.

Controlling agency. FAA, Houston ARTCC.

Using agency. U.S. Navy, Deputy Commander, Naval Special Warfare Command, Naval Special Warfare N31 Branch, Stennis Space Center, Bay St. Louis, MS.

* * * * *

Issued in Washington, DC, on July 2, 2014.
Gary A. Norek,
Manager, Airspace Policy and Regulations Group.

[FR Doc. 2014-16059 Filed 7-9-14; 8:45 am]

BILLING CODE 4910-13-P